DEPARTMENT OF ENERGY

Federal Energy Regulatory Commission

[Project No. 2639-028]

Northern States Power Company—Wisconsin; Notice of Application Accepted for Filing; Soliciting Motions To Intervene and Protests; Ready For Environmental Analysis; and Soliciting Comments, Recommendations, Terms and Conditions, and Prescriptions

Take notice that the following hydroelectric application has been filed with the Commission and is available for public inspection.

a. Type of Application: New Major License.

b. Project No.: 2639-028.

c. Date filed: November 30, 2021.

d. Applicant: Northern States Power Company—Wisconsin.

e. Name of Project: Cornell Hydroelectric Project.

f. Location: On the Lower Chippewa River, in the township of Cornell, Chippewa County, Wisconsin.

g. Filed Pursuant to: Federal Power Act 16 U.S.C. 791(a)-825(r).

h. Applicant Contact: Matthew Miller, Hydro License Compliance Consultant, Xcel Energy, 1414 W Hamilton Ave, PO Box 8, Eau Claire, WI 54702; phone: 715-737-1353; email: Matthew.j.miller@xcelenergy.com or James Zyduck, Director Hydro Plants, Xcel Energy, 1414 W Hamilton Ave, PO Box 8, Eau Claire, WI 54702.

i. FERC Contact: Michael Davis (202) 502-8339, Michael.Davis@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at http://www.ferc.gov/docs- filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2639-028.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

1. The Cornell Hydroelectric Project consists of the following existing facilities: (1) a non-overflow concrete bulkhead with intake; (2) a powerhouse with an integral intake, four turbine-generator units; (3) two gated spillways; (4) a concrete non-overflow dam section; (5) an overflow spillway with flashboards; (5) an earthen embankment; (6) a step-up transformer; and (7) a transmission line.

m. A copy of the application may be viewed on the Commission's website at http://www.ferc.gov using the “eLibrary” link. Enter the docket number excluding the last three digits in the docket number field to access the document. At this time, the Commission has suspended access to the Commission's Public Reference Room. For assistance, contact FERC at FERCOnlineSupport@ferc.gov or call toll free, (886) 208- 3676 or TTY (202) 502-8659.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

You may also register online at https://ferconline.ferc.gov/FERCOnline.aspx to be notified via email of new filings and issuances related to this or other pending projects. For assistance, contact FERC Online Support.

o. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

p. Procedural schedule: The application will be processed according to the following preliminary schedule. Revisions to the schedule will be made as appropriate.

Milestone | Target date
Deadline for filing interventions, protests, comments, recommendations, terms and conditions, and fishway prescriptions | September 2023.
Deadline for filing reply comments | October 2023.

q. Final amendments to the application must be filed with the Commission no later than 30 days from the issuance date of this notice.

Dated: July 14, 2023.
Debbie-Anne A. Reese,
Deputy Secretary.

[FR Doc. 2023-15425 Filed 7-19-23; 8:45 am]

BILLING CODE 6717-01-P